DEPARTMENT OF JUSTICE

Antitrust Division

Notice Pursuant to the National Cooperative Research and Production Act of 1993—Die Products Consortium (DPC)

Notice is hereby given that, on March 31, 2000, pursuant to section 6(a) of the National Cooperative Research and Production Act of 1993, 15 U.S.C. 4301 et seq. (“the Act”), Die Products Consortium (DPC) has filed written notifications simultaneously with the Attorney General and the Federal Trade Commission disclosing changes in its membership status. The notifications were filed for the purpose of extending the Act's provisions limiting the recovery of antitrust plaintiffs to actual damages under specified circumstances. Specifically, Agilent Technologies, Inc., Palo Alto, CA; and IBM, Armonk, NY have been added as parties to this venture.

No other changes have been made in either the membership or planned activity of the group research project. Membership in this group research project remains open, and Die Products Consortium (DPC) intends to file additional written notification disclosing all changes in membership.

On November 15, 1999, Die Products Consortium (DPC) filed its original notification pursuant to section 6(a) of the Act. A notice has not yet been published in the Federal Register.

Constance K. Robinson,
Director of Operations, Antitrust Division.

[FR Doc. 00-16480 Filed 6-28-00; 8:45 am]

BILLING CODE 4410-11-M